SECURITIES AND EXCHANGE COMMISSION

Issuer Delisting; Notice of Application To Withdraw From Listing and Registration on the Chicago Stock Exchange, Inc. (Aon Corporation, Common Stock, $1.00 Par Value); File No. 1-7933

April 4, 2002.

Aon Corporation, a Delaware corporation (“Issuer”), has filed an application with the Securities and Exchange Commission (“Commission”), pursuant to Section 12(d) of the Securities Exchange Act of 1934 (“Act”) ¹ and Rule 12d2-2(d) thereunder, ² to withdraw its Common Stock, $1.00 par value (“Security”), from listing and registration on the Chicago Stock Exchange, Inc. (“CHX” or “Exchange”).

¹ 15 U.S.C. 78l(d).

² 17 CFR 240.12d2-2(d).

The Issuer stated in its application that it has met the requirements of CHX Article XXVII, Rule 4 by complying with all applicable laws in effect in the state of Delaware, in which it is incorporated, and with the CHX's rules governing an issuer's voluntary withdrawal of a security from listing and registration. The Issuer will continue to list the Security on the New York Stock Exchange (“NYSE”). The Issuer's application relates solely to the Security's withdrawal from listing on the CHX and shall not affect its listing on the NYSE or its registration under Section 12(b) of the Act. ³

³ 15 U.S.C. 78L(b).

On February 12, 2002, the Board of Directors (“Board”) of the Issuer approved a resolution to withdraw the Issuer's Security from listing on the CHX. The Board made the decision to withdraw the Security from the CHX due to low trading volume.

Any interested person may, on or before April 26, 2002, submit by letter to the Secretary of the Securities and Exchange Commission, 450 Fifth Street, NW, Washington, DC 20549-0609, facts bearing upon whether the application has been made in accordance with the rules of the CHX and what terms, if any, should be imposed by the Commission for the protection of investors. The Commission, based on the information submitted to it, will issue an order granting the application after the date mentioned above, unless the Commission determines to order a hearing on the matter.

For the Commission, by the Division of Market Regulation, pursuant to delegated authority.⁴
⁴ 17 CFR 200.30-3(a)(1).
Jonathan G. Katz,
Secretary.

[FR Doc. 02-8642 Filed 4-9-02; 8:45 am]

BILLING CODE 8010-01-P